FEDERAL RETIREMENT THRIFT INVESTMENT

Board Member Meeting

77 K Street NE, 10th Floor, Washington, DC 20002, January 22, 2018, 8:30 a.m. (In-Person)

Open Session

1. Approval of the minutes for the December 18, 2017 Board Meeting

2. Monthly Reports

(a) Participant Activity Report

(b) Legislative Report

3. Quarterly Reports

(c) Investment Policy

(d) Budget Review

(e) Audit Status

4. IT Update

5. Annual Expense Ratio Review

6. Blended Retirement Update

7. Vendor Financials

Closed Session

Information covered under 5 U.S.C. 552b (c)(4) and (c)(9)(B).

CONTACT PERSON FOR MORE INFORMATION: Kimberly Weaver, Director, Office of External Affairs, (202) 942-1640.

Dated: January 16, 2018.
Kimberly Weaver,
Director, Office of External Affairs.
Megan Grumbine,
General Counsel, Federal Retirement Thrift Investment Board.

[FR Doc. 2018-01050 Filed 1-19-18; 8:45 am]

BILLING CODE P